DEPARTMENT OF COMMERCE

Foreign-Trade Zones Board

[B-04-2015]

Foreign-Trade Zone (FTZ) 26—Atlanta, Georgia; Notification of Proposed Production Activity; Mizuno USA, Inc (Golf Clubs); Braselton, Georgia

Georgia Foreign-Trade Zone, Inc., grantee of FTZ 26, submitted a notification of proposed production activity to the FTZ Board on behalf of Mizuno USA, Inc. (Mizuno), located in Braselton, Georgia. The notification conforming to the requirements of the regulations of the FTZ Board (15 CFR 400.22) was received on January 15, 2015.

The Mizuno facility is located within Site 31 of FTZ 26. The facility is used for golf club assembly. Pursuant to 15 CFR 400.14(b), FTZ activity would be limited to the specific foreign-status materials and components and specific finished products described in the submitted notification (as described below) and subsequently authorized by the FTZ Board.

Production under FTZ procedures could exempt Mizuno from customs duty payments on the foreign status components used in export production. On its domestic sales, Mizuno would be able to choose the duty rate during customs entry procedures that applies to golf clubs (duty rate—4.4%) for the following foreign status inputs: golf club heads, shafts and grips (duty rate—4.9%). Customs duties also could possibly be deferred or reduced on foreign status production equipment.

Public comment is invited from interested parties. Submissions shall be addressed to the FTZ Board's Executive Secretary at the address below. The closing period for their receipt is March 16, 2015.

A copy of the notification will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

For further information, contact Diane Finver at Diane.Finver@trade.gov or (202) 482-1367.

Dated: January 27, 2015.
Andrew McGilvray,
Executive Secretary.

[FR Doc. 2015-01991 Filed 1-30-15; 8:45 am]

BILLING CODE 3510-DS-P